DEPARTMENT OF VETERANS AFFAIRS

[OMB Control No. 2900-0253]

Agency Information Collection Activity: Nonsupervised Lender's Nomination and Recommendation of Credit Underwriter

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations on the proposed collection of information should be received on or before April 27, 2020.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0253” in any correspondence.

FOR FURTHER INFORMATION CONTACT: Danny S. Green, (202) 421-1354 or email Danny.Green2@va.gov. Please refer to “OMB Control No. 2900-0253” in any correspondence.

SUPPLEMENTARY INFORMATION:

Authority: Public Law 104-13; 44 U.S.C. 3501-3521.

Title: Nonsupervised Lender's Nomination and Recommendation of Credit Underwriter (VA Form 26-8736a)

OMB Control Number: 2900-0253.

Type of Review: Extension of an approved collection.

Abstract: VA Form 26-8736a is used to gather specific information to determine if the lender's nominee is qualified to make such a determination, VA has developed VA Form 26-8736a which contains information that VA considers crucial to the evaluation of the underwriter's experience. This form will be completed by the lender and the lender's nominee for underwriter and then submitted to VA for approval. The standards established by the Secretary require that a lender have a qualified underwriter review all loans to be closed on an automatic basis to determine that the loan meets VA's credit underwriting standards.

An agency may not conduct or sponsor, and a person is not required to respond to a collection of information unless it displays a currently valid OMB control number. The Federal Register Notice with a 60-day comment period soliciting comments on this collection of information was published at 85 FR 3762 on January 22, 2020, pages 3762 and 3763.

Affected Public: Individuals or Households.

Estimated Annual Burden: 500 hours.

Estimated Average Burden per Respondent: 20 minutes.

Frequency of Response: One time.

Estimated Number of Respondents: 1,500.

By direction of the Secretary.
Danny S. Green,
Department Clearance Officer, Office of Quality Performance and Risk, Department of Veterans Affairs.

[FR Doc. 2020-06368 Filed 3-26-20; 8:45 am]

BILLING CODE 8320-01-P